DEPARTMENT OF DEFENSE

Office of the Secretary

[Docket ID: DoD-2019-OS-0083]

Submission for OMB Review; Comment Request

AGENCY: Office of the DoD Chief Information Officer, DoD.

ACTION: 30-Day information collection notice.

SUMMARY: The Department of Defense has submitted to OMB for clearance the following proposal for collection of information under the provisions of the Paperwork Reduction Act.

DATES: Consideration will be given to all comments received by October 30, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: DoD's Defense Industrial Base (DIB) Cybersecurity (CS) Activities Cyber Incident Reporting; OMB Control Number 0704-0489.

Type of Request: Extension.

Number of Respondents: 10,000.

Responses per Respondent: 5.

Annual Responses: 50,000.

Average Burden per Response: 7 Hours.

Annual Burden Hours: 350,000.

Needs and Uses: The information collection requirement is necessary to support mandatory cyber incident reporting requirements under 10 U.S.C. 393 (formerly Pub. L. 112-239, National Defense Authorization Act for Fiscal Year 2013, Section 941, Reports to Department of Defense on penetrations of networks and information systems of certain contractors) and 10 U.S.C. 391 (formerly Pub. L. 113-58, National Defense Authorization Act for Fiscal Year 2015, Section 1632, Reporting on Cyber Incidents with Respect to Networks and Information Systems of Operationally Critical Contractors).

Affected Public: Business or other for-profit and not for profit institutions.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: September 25, 2019.
Aaron T. Siegel,
Alternate OSD Federal Register Liaison Officer, Department of Defense.

[FR Doc. 2019-21136 Filed 9-27-19; 8:45 am]

BILLING CODE 5001-06-P